DEPARTMENT OF TRANSPORTATION

Federal Aviation Administration

Thirteenth Meeting: RTCA Special Committee 225, Rechargeable Lithium Battery and Battery Systems—Small and Medium Size

AGENCY: Federal Aviation Administration (FAA), U.S. Department of Transportation (DOT).

ACTION: Meeting Notice of RTCA Special Committee 225, Rechargeable Lithium Battery and Battery Systems—Small and Medium Size.

SUMMARY: The FAA is issuing this notice to advise the public of the fourteenth meeting of the RTCA Special Committee 225, Rechargeable Lithium Battery and Battery Systems—Small and Medium Size

DATES: The meeting will be held Feb 4-6, 2014 from 9 a.m.-5 p.m.

ADDRESSES: On Oct 1st, the meeting will be held at the Boeing Facility, 95-82 Building, 1200 Wilson Boulevard, Arlington, VA 22209 and on Oct 2-3rd, the meeting will be held at RTCA Headquarters, 1150 18th Street NW., Suite 910, Washington DC 20036.

FOR FURTHER INFORMATION CONTACT: The RTCA Secretariat, 1150 18th Street NW., Suite 910, Washington, DC, 20036, or by telephone at (202) 330-0662/(202) 833-9339, fax (202) 833-9434, or Web site at http://www.rtca.org. In addition, Jennifer Iversen may be contacted directly at email: jiversen@rtca.org.

SUPPLEMENTARY INFORMATION: Pursuant to section 10(a)(2) of the Federal Advisory Committee Act (Pub. L. No. 92-463, 5 U.S.C., App.), notice is hereby given for a meeting of Special Committee 225. The agenda will include the following:

Tuesday, February 4

• Introductions and administrative items.

• Review agenda.

• Review and approval of summary from last Plenary meeting.

• Li-ion Current Events.

• Update TOR.

• Create plan for updating DO-311A, including working group meetings.

• Adjourn to Working Group to review/revise DO-311A.

• Review action items.

Wednesday, February 5

• Review agenda, other actions.

• Adjourn to Working Group to review/revise DO-311A.

• Review action items.

Thursday, February 6

• Review agenda, other actions.

• Review schedule for upcoming Plenaries (as needed), working group meetings.

• Establish agenda for the next Plenary.

• Adjourn to Working Group to review/revise DO-311A.

• Review action items.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 15, 2014.
Paige Williams,
Management Analyst, NextGen, Business Operations Group, Federal Aviation Administration.

[FR Doc. 2014-01165 Filed 1-21-14; 8:45 am]

BILLING CODE 4910-13-P